DEPARTMENT OF AGRICULTURE

Rural Utilities Service

Georgia Transmission Corporation; Notice of Finding of No Significant Impact

AGENCY: Rural Utilities Service, USDA.

ACTION: Notice of Finding of No Significant Impact.

SUMMARY: Notice is hereby given that the Rural Utilities Service (RUS) has made a finding of no significant impact with respect to a request from Georgia Transmission Corporation for financing assistance from RUS to finance the construction of a 230/115 kV substation and a 230 kV transmission line in Cobb County, Georgia.

FOR FURTHER INFORMATION CONTACT: Bob Quigel, Environmental Protection Specialist, Engineering and Environmental Staff, RUS, Stop 1571, 1400 Independence Avenue, SW., Washington, DC 20250-1571, telephone (202) 720-0468, e-mail at bquigel@rus.usda.gov.

SUPPLEMENTARY INFORMATION: Georgia Transmission Corporation proposes to construct a 230 kV transmission line and substation in western Cobb County, Georgia. The proposed 230/115 kV McConnell Road Substation will be located approximately ½ mile west of the intersection of Lost Mountain Road and Dallas Highway (State Road 120). The proposed transmission line will traverse east from the proposed substation adjacent to Dallas Highway for approximately 6.3 miles and connect to an existing 230 kV transmission line near the intersection of Dallas Highway and Mt. Calvary Road. The transmission line would be supported by steel, single-pole, self-supporting and guyed structures. The proposed transmission line will be constructed as an overbuild of the existing distribution line along Highway 120 between the 230 kV tap point and the Lost Mountain Substation. The distribution line will share the proposed 230 kV transmission line structures with intermediate poles put in place to reduce sag of the distribution conductors. The existing distribution line easement is within the Georgia Department of Transportation Dallas Highway right-of-way. Georgia Transmission Corporation proposes to place the new poles near the same locations as the existing poles wherever possible. However, Georgia Transmission Corporation will need to purchase and clear an additional 20-feet of easement on private property.

Copies of the Finding of No Significant Impact are available from RUS at the address provided herein or from Ms. Gayle Houston of Georgia Transmission Corporation, 2100 East Exchange Place, Tucker, Georgia 30085-2088 telephone (770) 270-7748. Ms. Houston's e-mail address is gayle.houston@gatrans.com.

Dated: November 15, 2002.
Blaine D. Stockton,
Assistant Administrator, Electric Program, Rural Utilities Service.

[FR Doc. 02-29596 Filed 11-20-02; 8:45 am]

BILLING CODE 3410-15-P